DEPARTMENT OF TRANSPORTATION

Federal Aviation Administration

14 CFR Parts 121, 125, 135, and 145

[Docket No. FAA-2000-7952]

RIN 2120-AH91

Service Difficulty Reports

AGENCY: Federal Aviation Administration, DOT.

ACTION: Final rule; delay of effective date.

SUMMARY: The Federal Aviation Administration (FAA) is further delaying the effective date of a final rule that amends the reporting requirements for air carriers and certificated domestic and foreign repair station operators concerning failures, malfunctions, and defects of aircraft, aircraft engines, systems, and components. This action is prompted by the FAA's decision to issue a proposal to address industry concerns about the final rule. Delaying the effective date of the final rule will allow the agency time for further consideration of industry concerns and completion of the notice of proposed rulemaking (NPRM) process.

DATES: The effective date of the rule amending 14 CFR parts 121, 125, 135, and 145 published at 66 FR 558912, November 23, 2001, is delayed from January 16, 2003 until January 16, 2004.

FOR FURTHER INFORMATION CONTACT: Jose E. Figueroa, Flight Standards Service, Tampa Flight Standards District Office, 5601 Mariner Street, Suite 310, Tampa, Florida, 33609-3413, telephone 813-639-1540.

SUPPLEMENTARY INFORMATION:

Background

On September 15, 2000, the FAA requested comments on the information collection requirements on the final rule entitled “Service Difficulty Reports” (65 FR 56191). That final rule, which had an effective date of January 16, 2001, amended the reporting requirements for air carriers and certificated domestic and foreign repair station operators concerning failures, malfunctions, and defects of aircraft, aircraft engines, systems, and components. The FAA received extensive written comments on the Service Difficulty Reporting (SDR) requirements and on the potential duplicate reporting of certain failures, malfunctions, and defects. On November 30, 2000, the FAA announced (65 FR 71247) that a public meeting on this rulemaking would be held on December 11, 2000. Participants at that meeting raised novel issues that the FAA was not aware of when preparing the final rule.

As a result of the concerns expressed at the meeting and those raised during the comment period for the final rule (published September 15, 2000), the FAA delayed the effective date of the final rule in three subsequent notices. The first notice (65 FR 80743) was published on December 22, 2000, the second notice (66 FR 21626) was published on April 30, 2001, and the third notice (66 FR 58912) was published on November 23, 2001. The purpose of these delays was to allow the agency time to consider industry's concerns and also to issue a notice of proposed rulemaking (NPRM). The FAA will issue an NPRM to address the issues raised and to give the aviation industry and the general public the opportunity to comment on the agency's proposed revisions to the final rule. The FAA is looking at the collection and analysis of SDR data through other information management systems that may provide valuable safety information. For example, the Commercial Airplane Certification Process Study is a significant collaborative effort between the FAA and industry to improve the certification and operation of air carrier aircraft. Aviation safety data identification and collection are a major component of this effort. To allow time to proceed with this process, the FAA further extends the effective date of the final rule until January 16, 2004. The FAA cautions the industry that the existing rules will remain in effect until the new effective date.

Since the delay in the effective date of the final rule does not impose any new requirements or any additional burden on the regulated public, the FAA finds that good cause exists for immediate adoption of the new effective date without a 30-day notice.

Issued in Washington DC on December 20, 2002.
Marion Blakey,
Administrator.

[FR Doc. 02-32715 Filed 12-23-02; 4:19 pm]

BILLING CODE 4910-13-P